DEPARTMENT OF HOMELAND SECURITY

Coast Guard

33 CFR Part 1

[Docket No. USCG-2008-1259]

RIN 1625-AB32

Assessment Framework and Organizational Restatement Regarding Preemption for Certain Regulations Issued by the Coast Guard

AGENCY: Coast Guard, DHS.

ACTION: Proposed rule; notice of public meetings; request for comments.

SUMMARY: The Coast Guard announces two public meetings to receive comments on a notice of proposed rulemaking addressing the Coast Guard's assessment framework for, and restating its position regarding, the federalism implications of regulations issued under the authority of various statutes within Titles 33 and 46 of the United States Code. The meetings will be held in two locations in order to allow for greater public involvement.

DATES: The public meetings will be held on the following dates:

• Arlington, VA [Washington, DC-area], May 13, 2014, from 12:30 p.m. to 3 p.m.

• Seattle, WA, May 16, 2014, from 12:30 p.m. to 3 p.m.

The meetings may conclude before the allotted time if all matters for discussion have been addressed. Written comments and related material may also be submitted to Coast Guard personnel specified at that meeting.

Those who plan to attend should notify the Coast Guard of their plans by May 6, 2014, using the contact information in the FOR FURTHER INFORMATION CONTACT section of this notice.

The comment period for the proposed rule closes May 26, 2014. All comments and related material submitted after the meeting must either be submitted to our online docket via http://www.regulations.gov on or before May 26, 2014, or reach the Docket Management Facility by that date.

ADDRESSES: The public meetings will be held at the following locations:

• Arlington, VA [Washington, DC-area]—U.S. Coast Guard Personnel Service Center (PSC), 4200 Wilson Boulevard, Alexander Hamilton Room, 9th floor, Arlington, VA 20598-7200

• Seattle, WA—Henry M. Jackson Federal Building, 915 Second Avenue, North Auditorium, Room 3448, Seattle, WA 98174-1067

You may submit written comments identified by docket number USCG-2005-21869 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. Our online docket for this rulemaking is available on the Internet at http://www.regulations.gov under docket number USCG-2008-1259.

FOR FURTHER INFORMATION CONTACT: If you have questions concerning the meetings or the proposed rule, please call or email Lieutenant Commander Lineka Quijano, Office of Maritime and International Law, Coast Guard, telephone 202-372-3865, email Lineka.N.Quijano@uscg.mil. If you have questions on viewing or submitting material to the docket, call Ms. Cheryl Collins, Program Manager, Docket Operations, telephone 202-366-9826.

SUPPLEMENTARY INFORMATION:

Background and Purpose

We published a notice of proposed rulemaking (NPRM) in the Federal Register on December 27, 2013 (78 FR 79242), entitled “Assessment Framework and Organizational Restatement Regarding Preemption for Certain Regulations Issued by the Coast Guard.” In it we stated that we did not plan to hold a public meeting, but that we welcomed requests explaining why one would be beneficial. We received several requests and have concluded that public meetings would aid this rulemaking. Therefore, we are publishing this notice announcing two public meetings. We also have extended the comment period until May 26, 2014 (79 FR 17482).

In the NPRM, we proposed a rule containing our assessment framework for, and restating our position regarding, the federalism implications of regulations issued under the authority of various statutes within Titles 33 and 46 of the United States Code. We proposed adding a subpart 1.06 to Title 33 of the Code of Federal regulations to discuss existing law on preemption, identify the laws and regulations that have preemptive effect, and clarify (but not alter) the Coast Guard's application of statutes and case law regarding the preemptive effect of its regulations. The proposed rule does not offer new interpretations of the preemptive impact of Coast Guard regulations, and does not propose new regulations that would impact the states' ability to regulate and protect their waterways. Instead, our proposed rule simply restates the current preemptive impact of our regulations as they exist today. In other words, it provides a list of existing regulations that were previously determined to have preemptive impact under U.S. Supreme Court case law pronouncements on statutes implemented by the Coast Guard. Further, the proposed rule would not give preemptive impact to any specific future Coast Guard regulations. It merely provides the legal framework by which future regulations will be analyzed for preemptive impact.

You may view the NPRM, and public comments submitted thus far, in our online docket by going to http://www.regulations.gov. Once there, search for the docket number USCG-2008-1259, and then click “Open Docket Folder.” If you do not have access to the internet, you may view the docket online by visiting the Docket Management Facility in Room W12-140 on the ground floor of the DOT West Building, 1200 New Jersey Avenue SE., Washington, DC 20590, between 9 a.m. and 5 p.m., Monday through Friday, except Federal holidays. We have an agreement with the Department of Transportation to use the Docket Management Facility.

We encourage you to participate in this rulemaking by submitting comments either orally at the meeting or in writing. If you bring written comments to the meeting, you may submit them to Coast Guard personnel specified at the meeting to receive written comments. These comments will be posted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact Lieutenant Commander Lineka Quijano at the telephone number or email address indicated under the FOR FURTHER INFORMATION CONTACT section of this notice.

Public Meeting

The Coast Guard will hold two public meetings regarding this proposed rule at the following locations on the following dates:

• Arlington, VA [Washington, DC-area], May 13, 2014, from 12:30 p.m. to 3 p.m., at the U.S. Coast Guard Personnel Service Center (PSC), 4200 Wilson Boulevard, Alexander Hamilton Room, 9th floor, Arlington, VA 20598-7200. Note: A valid government-issued photo identification (for example, a driver's license) will be required for entrance to the building or meeting space.

• Seattle, WA, May 16, 2014, from 12:30 p.m. to 3 p.m., at the Henry M. Jackson Federal Building, 915 Second Avenue, North Auditorium, Room 3448, Seattle, WA 98174-1067. Note: A valid government-issued photo identification (for example, a driver's license) will be required for entrance to the building.

To facilitate the building security process, and to request reasonable accommodation, those who plan to attend should contact the meeting coordinator, LCDR Lineka Quijano, 7 days prior to the first meeting by using the contact information in the FOR FURTHER INFORMATION CONTACT section of this notice. Requests made after May 6, 2014, might not be able to be accommodated. Please note that due to security considerations, a valid, government-issued photo identification must be presented to gain entrance to the building or meeting space.

Members of the public may attend these meetings up to the seating capacity of the rooms. The meetings may conclude before the allotted time if all matters of concern have been addressed.

We plan to record each meeting using an audio-digital recorder, and to make that audio recording available through a link in our online docket.

Dated: April 10, 2014.
Steven D. Poulin,
Rear Admiral, U.S. Coast Guard, Judge Advocate General.

[FR Doc. 2014-08934 Filed 4-18-14; 8:45 am]

BILLING CODE 9110-04-P